DEPARTMENT OF LABOR

Mine Safety and Health Administration

Petitions for Modification of Application of Existing Mandatory Safety Standards

AGENCY: Mine Safety and Health Administration, Labor.

ACTION: Notice.

SUMMARY: Section 101(c) of the Federal Mine Safety and Health Act of 1977 and 30 CFR part 44 govern the application, processing, and disposition of petitions for modification. This notice is a summary of petitions for modification submitted to the Mine Safety and Health Administration (MSHA) by the parties listed below to modify the application of existing mandatory safety standards codified in Title 30 of the Code of Federal Regulations.

DATES: All comments on the petitions must be received by the Office of Standards, Regulations and Variances on or before December 9, 2011.

ADDRESSES: You may submit your comments, identified by “docket number” on the subject line, by any of the following methods:

1. Electronic Mail: zzMSHA-comments@dol.gov. Include the docket number of the petition in the subject line of the message.

2. Facsimile: (202) 693-9441.

3. Regular Mail: MSHA, Office of Standards, Regulations and Variances, 1100 Wilson Boulevard, Room 2350, Arlington, Virginia 22209-3939, Attention: Roslyn B. Fontaine, Acting Director, Office of Standards, Regulations and Variances.

4. Hand-Delivery or Courier: MSHA, Office of Standards, Regulations and Variances, 1100 Wilson Boulevard, Room 2350, Arlington, Virginia 22209-3939, Attention: Roslyn B. Fontaine, Acting Director, Office of Standards, Regulations and Variances.

MSHA will consider only comments postmarked by the U.S. Postal Service or proof of delivery from another delivery service such as UPS or Federal Express on or before the deadline for comments. Individuals who submit comments by hand-delivery are required to check in at the receptionist's desk on the 21st floor.

Individuals may inspect copies of the petitions and comments during normal business hours at the address listed above.

FOR FURTHER INFORMATION CONTACT: Barbara Barron, Office of Standards, Regulations and Variances at (202) 693-9447 (Voice), barron.barbara@dol.gov (Email), or (202) 693-9441 (Facsimile). [These are not toll-free numbers.]

SUPPLEMENTARY INFORMATION:

I. Background

Section 101(c) of the Federal Mine Safety and Health Act of 1977 (Mine Act) allows the mine operator or representative of miners to file a petition to modify the application of any mandatory safety standard to a coal or other mine if the Secretary of Labor determines that:

(1) An alternative method of achieving the result of such standard exists which will at all times guarantee no less than the same measure of protection afforded the miners of such mine by such standard; or

(2) That the application of such standard to such mine will result in a diminution of safety to the miners in such mine. In addition, the regulations at 30 CFR 44.10 and 44.11 establish the requirements and procedures for filing petitions for modification.

II. Petitions for Modification

Docket Number: M-2011-010-M.

Petitioner: ISP Minerals, Inc., 1101 Opal Court, Suite 315, Hagerstown, Maryland 21740.

Mines: Annapolis Mine, MSHA I.D. No. 23-00288, #1 Hillcrest Drive, Annapolis, Missouri 63620, located in Iron County, Missouri; Charmian Mine, MSHA I.D. No. 36-03460, 1455 Old Waynesboro Road, Blue Ridge Summit, Pennsylvania 17214, located in Adams County, Pennsylvania; Kremlin Mine, MSHA I.D. No. 47-00148, 248 Kremlin Road, Pembine, Wisconsin 54156, located in Marinette County, Wisconsin.

Regulation Affected: 30 CFR 56.13020 (Use of compressed air).

Modification Request: The three mines are open pit surface mines that extract nonmetallic crushed stones. The petitioner requests a modification of the existing standard to permit the use of a clothes cleaning process that uses regulated compressed air for cleaning miners' dust-laden clothing. The petitioner states that:

(1) The alternative method provides a direct reduction of a miners' exposure to respirable crystalline dust, thus reducing their health risk while providing no less than the same measure of protection provided by the existing standard.

(2) The proposed alternative method has been jointly developed with and successfully tested by the National Institute for Occupational Safety and Health (NIOSH).

(3) The proposed clothes cleaning process uses a regulated, compressed air nozzle manifold to blow dust from a worker's clothing. This activity is performed in an enclosed booth which captures the dust and vents it directly to the atmosphere. Since the booth is under negative pressure, with air moving downward away from the worker's breathing zone, no dust escapes to contaminate the work environment or other workers.

To ensure that the proposed modification will guarantee no less than the same measure of protection afforded the miners under the existing standard, the petitioner proposes to:

(1) Ensure that only miners trained in the operation of the clothes cleaning booth will be permitted to use the booth to clean their clothes. Miners not trained to use the booth will have access to HEPA vacuum equipment to clean their clothes.

(2) The petitioner will incorporate the NIOSH Clothes Cleaning Process Instruction Manual into their MSHA Part 46 Training Plan and train affected miners in the process.

(3) Miners entering the booth will examine valves and nozzles for damage or malfunction and will close the door fully before opening the air valve. Any defects will be repaired prior to the booth being used.

(4) Miners entering the booth will wear full-seal goggles for eye protection, ear plugs or muffs for hearing protection, and half-mask fit-tested respirators with N-100 filters for respiratory protection. A sign will be conspicuously posted requiring the above personal protective equipment when the booth is entered.

(5) Air flow through the booth will be sufficient to maintain negative pressure during use of the cleaning system to prevent contamination of the environment outside the booth. Air flow will be in a downward direction, thereby moving contaminants away from the miner's breathing zone.

(6) Air pressure through the spray manifold will be limited to 30 pounds per square inch or less. (Compressed air at up to 30 pounds per square inch is allowed by the Occupational Safety and Health Administration for cleaning purposes). A lock box with a single-plant-manager controlled key will be used to prevent regulator tampering.

(7) The air spray manifold will consist of a 1½-inch schedule 40 steel pipe that has a failure pressure of 1,300 pounds per square inch, is capped at the base, and is actuated by an electrically controlled ball valve at the top.

(8) The air spray manifold will contain 26 nozzles at 30 pounds per square inch gauge.

(9) The uppermost spray of the spray manifold will be located not more than 56 inches from the floor.

(10) Side deflectors will be used to eliminate the possibility of incidental contact with the air nozzles during the clothes cleaning process.

(11) The petitioner will conduct periodic maintenance checks of the booth in accordance with the recommendations contained in the NIOSH Clothes Cleaning Process Instruction Manual.

(l2) The air receiver tank supplying air to the manifold system will be of sufficient volume to permit no less than 20 seconds of continuous cleaning time.

(13) An appropriate hazard warning sign will be posted on the booth to state, at a minimum, “Compressed Air” and “Respirable Silica Dust”.

(14) Minimum performance criteria for the local exhaust ventilation system servicing the booth will be maintained at all times. Provisions will be established by the Petitioner to remove the booth from service if volumetric airflow falls below 80 percent of original design capacity and/or booth negative pressure falls below 0.1 inch water gauge.

The petitioner asserts that the alternative method will at all times guarantee no less than the same measure of protection afforded the miners by the existing standard.

Docket Number: M-2011-011-M.

Petitioner: ISP Granule Products, LLC, 1101 Opal Court, Suite 315, Hagerstown, Maryland 21740.

Mine: Ione Mine, MSHA I.D. No. 04-05533, 1900 Highway 104, Ione, California 95640, located in Amador County, California.

Regulation Affected: 30 CFR 56.13020 (Use of compressed air).

Modification Request: The mine is an open pit surface mine that extracts nonmetallic crushed stone. The petitioner requests a modification of the existing standard to permit the use of a clothes cleaning process that uses regulated compressed air for cleaning miners' dust-laden clothing. The petitioner states that:

(1) The alternative method provides a direct reduction of a miners' exposure to respirable crystalline dust, thus reducing their health risk while providing no less than the same measure of protection provided by the existing standard.

(2) The proposed alternative method has been jointly developed with and successfully tested by the National Institute for Occupational Safety and Health (NIOSH).

(3) The proposed clothes cleaning process uses a regulated, compressed air nozzle manifold to blow dust from a worker's clothing. This activity is performed in an enclosed booth which captures the dust and vents it directly to the atmosphere. Since the booth is under negative pressure, with air moving downward away from the worker's breathing zone, no dust escapes to contaminate the work environment or other workers.

To ensure that the proposed modification will guarantee no less than the same measure of protection afforded the miners under the existing standard, the petitioner proposes to:

(1) Ensure that only miners trained in the operation of the clothes cleaning booth will be permitted to use the booth to clean their clothes. Miners not trained to use the booth will have access to HEPA vacuum equipment to clean their clothes.

(2) The petitioner will incorporate the NIOSH Clothes Cleaning Process Instruction Manual into their MSHA Part 46 Training Plan and train affected miners in the process.

(3) Miners entering the booth will examine valves and nozzles for damage or malfunction and will close the door fully before opening the air valve. Any defects will be repaired prior to the booth being used.

(4) Miners entering the booth will wear full-seal goggles for eye protection, ear plugs or muffs for hearing protection, and half-mask fit-tested respirators with N-100 filters for respiratory protection. A sign will be conspicuously posted requiring the above personal protective equipment when the booth is entered.

(5) Air flow through the booth will be sufficient to maintain negative pressure during use of the cleaning system to prevent contamination of the environment outside the booth. Air flow will be in a downward direction, thereby moving contaminants away from the miner's breathing zone.

(6) Air pressure through the spray manifold will be limited to 30 pounds per square inch or less. (Compressed air at up to 30 pounds per square inch is allowed by the Occupational Safety and Health Administration for cleaning purposes). A lock box with a single, plant-manager-controlled key will be used to prevent regulator tampering.

(7) The air spray manifold will consist of a 1½-inch schedule 40 steel pipe that has a failure pressure of 1,300 pounds per square inch, is capped at the base, and is actuated by an electrically controlled ball valve at the top.

(8) The air spray manifold will contain 26 nozzles at 30 pounds per square inch gauge.

(9) The uppermost spray of the spray manifold will be located not more than 56 inches from the floor.

(10) Side deflectors will be used to eliminate the possibility of incidental contact with the air nozzles during the clothes cleaning process.

(11) The petitioner will conduct periodic maintenance checks of the booth in accordance with the recommendations contained in the NIOSH Clothes Cleaning Process Instruction Manual.

(l2) The air receiver tank supplying air to the manifold system will be of sufficient volume to permit no less than 20 seconds of continuous cleaning time.

(13) An appropriate hazard warning sign will be posted on the booth to state, at a minimum, “Compressed Air” and “Respirable Silica Dust”.

(14) Minimum performance criteria for the local exhaust ventilation system servicing the booth will be maintained at all times. Provisions will be established by the Petitioner to remove the booth from service if volumetric airflow falls below 80 percent of original design capacity and/or booth negative pressure falls below 0.1 inch water gauge.

The petitioner asserts that the alternative method will at all times guarantee no less than the same measure of protection afforded the miners by the existing standard.

Docket Number: M-2011-037-C.

Petitioner: Affinity Coal Company, LLC, 111 Affinity Complex Road, Sophia, West Virginia 25921.

Mine: Affinity Mine, MSHA I.D. No. 46-08878, 111 Affinity Complex Road, Sophia, West Virginia 25921, located in Raleigh County, West Virginia.

Regulation Affected: 30 CFR 75.1101-1(b) (Deluge-type water spray system).

Modification Request: The petitioner requests a modification of the existing standard to eliminate the use of blow-off dust covers for the spray nozzles of a deluge-type water spray system installed at belt-conveyor drives in an underground coal mine. The petitioner states that:

(1) As an alternative to using the blow-off dust covers, a person trained in the testing procedures specific to the deluge-type water spray fire suppression systems used at each belt drive will once each week:

(a) Conduct a visual examination of each of the deluge-type water spray fire suppression systems.

(b) Conduct a functional test of the deluge-type water spray fire suppression systems by actuating the system and watching its performance.

(c) Record the results of the examination and functional test in a book maintained on the surface. The record will be made available to the MSHA representative and retained at the mine for one year.

(2) Any malfunction or clogged nozzle detected will be corrected immediately.

(3) The procedure used to perform the functional test will be posted at or near each belt drive that uses a deluge-type water spray fire suppression system.

The petitioner asserts that the alternative method will provide at all times a measure of protection for the miners equal to or greater than that of the existing standard.

Dated: November 4, 2011.
Patricia W. Silvey,
Certifying Officer.

[FR Doc. 2011-29010 Filed 11-8-11; 8:45 am]

BILLING CODE 4510-43-P